DEPARTMENT OF TRANSPORTATION

Office of the Secretary

Aviation Proceedings, Agreements Filed During the Week Ending November 30, 2001

The following Agreements were filed with the Department of Transportation under provisions of 49 U.S.C. 412 and 414. Answers may be filed within 21 days after the filing of the applications.

Docket Number: OST-2001-11046

Date Filed: November 26, 2001

Parties: Members of the International Air Transport Association

Subject:

PTC23 EUR-SWP 0057 dated 16 November 2001

Europe-South West Pacific Expedited Resolution 002c r-1

PTC23 EUR-SWP 0058 dated 23 November 2001

Europe-South West Pacific Expedited Resolutions r2-r7

Intended effective dates: 15 December 2001, 1 January 2002

Docket Number: OST-2001-11047

Date Filed: November 26, 2001

Parties: Members of the International Air Transport Association

Subject:

PTC23 ME-TC3 0129 dated 27 November 2001

Mail Vote 183—Resolution 010o

TC23 Middle East-South East Asia Special Passenger

Amending Resolution

Intended effective date: 1 December 2001

Docket Number: OST-2001-11053

Date Filed: November 27, 2001

Parties: Members of the International Air Transport Association

Subject:

PTC23 EUR-SWP 0059 dated 23 November 2001

TC23/TC123 Europe-South West Pacific Resolutions r1-r21

MINUTES—PTC23 EUR-SWP 0060 dated 23 November 2001

TABLES—PTC23 EUR-SWP FARES 0030 dated 27 November 2001

Intended effective date: 1 April 2002

Docket Number: OST-2001-11062

Date Filed: November 28, 2001

Parties: Members of the International Air Transport Association

Subject:

PTC2 EUR 0446 dated 23 November 2001

TC2 Within Europe Resolutions r1-r34

PTC2 EUR 0451 dated 27 November 2001

Technical Correction to PTC2 EUR 0446 dated 23 November 2001

PTC2 EUR 0448 dated 27 November 2001

TC2 Within Europe Resolutions r35-r37

PTC2 EUR 0449 dated 27 November 2001

TC2 Within Europe Resolution 002kk r38

PTC2 Europe-Description of Agreements

Effective 1 March, 1 April, 1 May 2002

MINUTES—PTC2 EUR 0445 dated 16 November 2001

TABLES—PTC2 EUR FARES 0060 dated 27 November 2001

Intended effective dates: 1 March, 1 April, 1 May 2002

Docket Number: OST-2001-11078

Date Filed: November 30, 2001

Parties: Members of the International Air Transport Association

Subject:

PTC23 EUR-JK 0074 dated 9 November 2001

Europe-Japan/Korea Resolutions r1-r37

MINUTES—PTC23 EUR-JK 0075 dated 30 November 2001

TABLES—PTC23 EUR-JK FARES 0034 dated 9 November 2001

Intended effective date: 1 April 2002

Dorothy Y. Beard,
Federal Register Liaison.

[FR Doc. 01-31395 Filed 12-19-01; 8:45 am]

BILLING CODE 4910-62-P